DEPARTMENT OF LABOR

Employment and Training Administration

[TA-W-65,204]

Daimler Trucks North America/Gastonia Components and Logistics Formerly Known as Freightliner LLC/Gastonia Parts and Manufacturing Plant Gastonia, NC; Notice of Termination of Investigation

Pursuant to Section 221 of the Trade Act of 1974, as amended, an investigation was initiated on February 10, 2009 in response to a petition filed by three workers on behalf of workers at Daimler Trucks North America/Gastonia Components and Logistics, formerly known as Freightliner LLC/Gastonia Parts and Manufacturing Plant, located in Gastonia, North Carolina.

All of the petitioners are covered by an active certification (TA-W-61,095) which expires on April 13, 2009. Consequently, further investigation in this case would serve no purpose, and the investigation has been terminated.

Signed at Washington, DC, this 7th day of April 2009.
Richard Church,
Certifying Officer, Division of Trade Adjustment Assistance.

[FR Doc. E9-10571 Filed 5-6-09; 8:45 am]

BILLING CODE 4510-FN-P